UNITED STATES TRADE REPRESENTATIVE

Notice of Meeting of the Industry Sector Advisory Committee on Small and Minority Business (ISAC-14)

AGENCY: Office of the Untied States Trade Representative.

ACTION: Notice of an opened meeting.

SUMMARY: The Industry Sector Advisory Committee on Small and Minority Business (ISAC-14) will hold a meeting on March 6, 2002, from 2 p.m. to 4 p.m. The meeting will be opened to the public from 2 p.m. to 4 p.m.

DATES: The meeting is scheduled for March 6, 2002, unless otherwise notified.

ADDRESSES: The meeting will be held in Conference Room 2015B of the Department of Commerce, located at 14th Street and Constitution Avenue, NW., Washington, DC 20230.

FOR FURTHER INFORMATION CONTACT: Pam Wilbur or Kelly Parsons (principal contacts), at (202) 482-4792, Department of Commerce, 14th Street and Constitution Avenue, NW., Washington, DC 20230 or myself on (202) 395-6120.

SUPPLEMENTARY INFORMATION: During the meeting the agenda items to be addressed will be:

• A vote on Chairman Jon Weinstein's letter to Secretary Evans discussing TPA legislation;

• Report on the results of the June OECD meeting of the SME Working Party;

• Preparations for the upcoming APEC SME Ministerial in Mexico;

• Input for WTO negotiators; and

• Possible cooperation with Canadian advisory groups.

Christina Sevilla,
Acting Assistant U.S. Trade Representative for Intergovernmental Affairs and Public Liaison.

[FR Doc. 02-4188 Filed 2-20-02; 8:45 am]

BILLING CODE 3190-01-M